DEPARTMENT OF HEALTH AND HUMAN SERVICES

Administration on Aging

Agency Information Collection Activities; Submission for OMB Review; Comment Request; Extension With Change of the Expiration Date of the Title VI Program Performance Report

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by July 17, 2006.

ADDRESSES: Submit written comments on the collection of information to the Office of Information and Regulatory Affairs, OMB, New Executive Office Bldg., 725 17th St., NW., rm. 10235, Washington, DC 20503, Attn: Brenda Aguilar, Desk Officer for AoA.

FOR FURTHER INFORMATION CONTACT: Yvonne Jackson; Director; Office for American Indian, Alaskan Native and Native Hawaiian Programs; Administration on Aging, Washington, DC 20201; (202) 357-3501; Yvonne.Jackson@aoa.gov.

SUPPLEMENTARY INFORMATION: In compliance with 44 U.S.C. 3507, AoA has submitted the following proposed collection of information to OMB for review and clearance.

The Program Performance Report provides a data base for AoA to (1) Monitor program achievement of performance objectives; (2) establish program policy and direction; and (3) prepare responses to Congress, the OMB, the General Accounting Office, other Federal departments, and public and private agencies as required by the OAA Title II sections 202(a)19 and 208; and prepare data for the Federal Interagency Task Force on Older Indians established pursuant to section 134(d) of the 1987 Amendments to the OAA.

AoA estimates the burden of this collection of information as follows: The estimate of total respondent burden is 243 hours per year to prepare reports.

In the Federal Register of February 23, 2006 (Vol. 71, No. 36, Page 9345), the agency requested comments on the proposed collection of information. No comments were received.

Dated: June 13, 2006.
Josefina G. Carbonell,
Assistant Secretary for Aging.

[FR Doc. E6-9487 Filed 6-15-06; 8:45 am]

BILLING CODE 4154-01-P